DEPARTMENT OF COMMERCE

International Trade Administration

[A-122-877, A-533-946]

Citric Acid and Certain Citrate Salts From Canada and India: Initiation of Less-Than-Fair-Value Investigations

AGENCY: Enforcement and Compliance, International Trade Administration, Department of Commerce.

DATES: Applicable February 10, 2026.

FOR FURTHER INFORMATION CONTACT: Preston Cox at (240) 956-8630 and Amber Hodak at (202) 482-8034 (Canada) and Bryan Hansen at (202) 482-3683 (India), AD/CVD Operations, Enforcement and Compliance, International Trade Administration, U.S. Department of Commerce, 1401 Constitution Avenue NW, Washington, DC 20230.

SUPPLEMENTARY INFORMATION:

The Petitions

On January 21, 2026, the U.S. Department of Commerce (Commerce) received antidumping duty (AD) petitions concerning imports of citric acid and certain citrate salts from Canada and India, filed in proper form on behalf of Archer-Daniels-Midland Company, Cargill, Incorporated, and Primary Products Ingredients Americas LLC (collectively, the petitioners), domestic producers of citric acid and certain citrate salts.¹ The AD Petitions were accompanied by countervailing duty (CVD) petitions concerning imports of citric acid and certain citrate salts from Canada and India.²

¹ See Petitioners' Letter, “Petitions for the Imposition of Antidumping and Countervailing Duties on Imports of Citric Acid and Certain Citrate Salts from Canada and India,” dated January 21, 2026 (Petitions).

² Id.

Between January 26 and February 6, 2026, Commerce requested supplemental information pertaining to certain aspects of the Petitions in supplemental questionnaires.³ Between January 29 and February 9, 2026, the petitioners filed timely responses to these requests for additional information.⁴

³ See Commerce's Letters, “Supplemental Questions,” dated January 26, 2026 (General Issues Supplemental Questionnaire); see also Country-Specific AD Supplemental Questionnaires: First Canada AD Supplemental and First India AD Supplemental, dated January 27, 2026; see also Memorandum, “Teleconference with Counsel to the Petitioners,” dated February 3, 2026 (Second Canada and India AD Supplemental); see also Memorandum, “Phone Call with Counsel to the Petitioners,” dated February 6, 2026.

⁴ See Petitioners' Letters, “Response to Supplemental Questions,” dated January 29, 2026 (General Issues Supplement); see also Country-Specific AD Supplemental Responses: First Canada AD Supplement and First India AD Supplement, dated January 30, 2026; and Country-Specific AD Supplemental Responses: Second Canada AD Supplement and Second India AD Supplement, dated February 4, 2026; see also “Petitioners' Corrected Representative Certification,” dated February 9, 2026.

In accordance with section 732(b) of the Tariff Act of 1930, as amended (the Act), the petitioners allege that imports of citric acid and certain citrate salts from Canada and India are being, or are likely to be, sold in the United States at less than fair value (LTFV) within the meaning of section 731 of the Act, and that imports of such products are materially injuring, or threatening material injury to, the citric acid and certain citrate salts industry in the United States. Consistent with section 732(b)(1) of the Act, the Petitions were accompanied by information reasonably available to the petitioners supporting their allegations.

Commerce finds that the petitioners filed the Petitions on behalf of the domestic industry, because the petitioners are interested parties, as defined in section 771(9)(C) of the Act. Commerce also finds that the petitioners demonstrated sufficient industry support for the initiation of the requested LTFV investigations.⁵

⁵ See section on “Determination of Industry Support for the Petitions,” infra.

Periods of Investigation (POI)

Because the Petitions were filed on January 21, 2026, pursuant to 19 CFR 351.204(b)(1), the POI for the Canada and India LTFV investigations is January 1, 2025, through December 31, 2025.

Scope of the Investigations

The products covered by these investigations are citric acid and certain citrate salts from Canada and India. For a full description of the scope of these investigations, see the appendix to this notice.

Comments on the Scope of the Investigations

On January 26, 2026, Commerce requested information and clarification from the petitioners regarding the proposed scope to ensure that the scope language in the Petitions is an accurate reflection of the products for which the domestic industry is seeking relief.⁶ On January 29, 2026, the petitioners provided clarifications and revised the scope.⁷ The description of merchandise covered by these investigations, as described in the appendix to this notice, reflects these clarifications.

⁶ See General Issues Supplemental Questionnaire.

⁷ See General Issues Supplement at 2-3 and Exhibit I-S4.

As discussed in the Preamble to Commerce's regulations, we are setting aside a period for interested parties to raise issues regarding product coverage (i.e., scope).⁸ Commerce will consider all scope comments received from interested parties and, if necessary, will consult with interested parties prior to the issuance of the preliminary determinations. If scope comments include factual information, all such factual information should be limited to public information.⁹ Commerce requests that interested parties provide at the beginning of their scope comments a public executive summary for each comment or issue raised in their submission. Commerce further requests that interested parties limit their public executive summary of each comment or issue to no more than 450 words, not including citations. Commerce intends to use the public executive summaries as the basis of the comment summaries included in the analysis of scope comments. To facilitate preparation of its questionnaires, Commerce requests that scope comments be submitted by 5:00 p.m. Eastern Time (ET) on March 2, 2026, which is 20 calendar days from the signature date of this notice. Any rebuttal comments, which may include factual information, and should also be limited to public information, must be filed by 5:00 p.m. ET on March 12, 2026, which is 10 calendar days from the initial comment deadline.

⁸ See Antidumping Duties; Countervailing Duties, Final Rule, 62 FR 27296, 27323 (May 19, 1997) (Preamble); see also 19 CFR 351.312.

⁹ See 19 CFR 351.102(b)(21) (defining “factual information”).

Commerce requests that any factual information that parties consider relevant to the scope of these investigations be submitted during that period. However, if a party subsequently finds that additional factual information pertaining to the scope of these investigations may be relevant, the party must contact Commerce and request permission to submit the additional information. All scope comments must be filed simultaneously on the records of the concurrent LTFV and CVD investigations.

Filing Requirements

All submissions to Commerce must be filed electronically via Enforcement and Compliance's Antidumping Duty and Countervailing Duty Centralized Electronic Service System (ACCESS), unless an exception applies.¹⁰ An electronically filed document must be received successfully in its entirety by the time and date it is due.

¹⁰ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of citric acid and certain citrate salts to be reported in response to Commerce's AD questionnaires. This information will be used to identify the key physical characteristics of the subject merchandise in order to report the relevant cost of production (COP) accurately, as well as to develop appropriate product comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe citric acid and certain citrate salts, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on March 2, 2026, which is 20 calendar days from the signature date of this notice. Any rebuttal comments must be filed by 5:00 p.m. ET on March 12, 2026, which is 10 calendar days from the initial comment deadline. All comments and submissions to Commerce must be filed electronically using ACCESS, as explained above, on the record of each of the LTFV investigations.

Determination of Industry Support for the Petitions

Section 732(b)(1) of the Act requires that petition be filed on behalf of the domestic industry. Section 732(c)(4)(A) of the Act provides that a petition meets this requirement if the domestic producers or workers who support the petitions account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC apply the same statutory definition regarding the domestic like product,¹¹ they do so for different purposes and pursuant to a separate and distinct authority. In addition, Commerce's determination is subject to limitations of time and information. Although this may result in different definitions of the like product, such differences do not render the decision of either agency contrary to law.¹²

¹¹ See section 771(10) of the Act.

¹² See USEC, Inc. v. United States, 132 F.Supp.2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of these investigations.¹³ Based on our analysis of the information submitted on the record, we have determined that citric acid and certain citrate salts, as defined in the scope, constitute a single domestic like product, and we have analyzed industry support in terms of that domestic like product.¹⁴

¹³ For a discussion of the domestic like product analysis as applied to these cases and information regarding industry support, see Checklists, “Antidumping Duty Investigation Initiation Checklists: Citric Acid and Certain Citrate Salts from Canada and India,” dated concurrently with, and hereby adopted by, this notice (Country-Specific AD Initiation Checklists), at Attachment II, Analysis of Industry Support for the Antidumping and Countervailing Duty Petitions Covering Citric Acid and Certain Citrate Salts from Canada and India (Attachment II). These checklists are on file electronically via ACCESS.

¹⁴ For further discussion, see Attachment II of the Country-Specific AD Initiation Checklists.

In determining whether the petitioners have standing under section 732(c)(4)(A) of the Act, we considered the industry support data contained in the Petitions with reference to the domestic like product as defined in the “Scope of the Investigations,” in the appendix to this notice. To establish industry support, the petitioners provided their own production of the domestic like product in 2025.¹⁵ The petitioners identified themselves as the only producers of citric acid and certain citrate salts in the United States; therefore, the Petitions are supported by 100 percent of the U.S. industry.¹⁶ We relied on data provided by the petitioners for purposes of measuring industry support.¹⁷

¹⁵ Id.

¹⁶ Id.

¹⁷ Id.

Our review of the data provided in the Petitions, the General Issues Supplement, and other information readily available to Commerce indicates that the petitioners have established industry support for the Petitions.¹⁸ First, the Petitions established support from domestic producers (or workers) accounting for more than 50 percent of the total production of the domestic like product and, as such, Commerce is not required to take further action in order to evaluate industry support (e.g., polling).¹⁹ Second, the domestic producers (or workers) have met the statutory criteria for industry support under section 732(c)(4)(A)(i) of the Act because the domestic producers (or workers) who support the Petitions account for at least 25 percent of the total production of the domestic like product.²⁰ Finally, the domestic producers (or workers) have met the statutory criteria for industry support under section 732(c)(4)(A)(ii) of the Act because the domestic producers (or workers) who support the Petitions account for more than 50 percent of the production of the domestic like product produced by that portion of the industry expressing support for, or opposition to, the Petitions.²¹ Accordingly, Commerce determines that the Petitions were filed on behalf of the domestic industry within the meaning of section 732(b)(1) of the Act.²²

¹⁸ Id.

¹⁹ Id.; see also section 732(c)(4)(D) of the Act.

²⁰ See Attachment II of the Country-Specific AD Initiation Checklists.

²¹ Id.

²² Id.

Allegations and Evidence of Material Injury and Causation

The petitioners allege that the U.S. industry producing the domestic like product is being materially injured, or is threatened with material injury, by reason of the imports of the subject merchandise sold at LTFV. In addition, the petitioners allege that subject imports exceed the negligibility threshold provided for under section 771(24)(A) of the Act.²³

²³ For further discussion, see Country-Specific AD Initiation Checklists at Attachment III, Analysis of Allegations and Evidence of Material Injury and Causation for the Antidumping and Countervailing Duty Petitions Covering Citric Acid and Certain Citrate Salts from Canada and India.

The petitioners contend that the industry's injured condition is illustrated by a significant increase in the volume of subject imports; increased market share of subject imports; underselling and price depression and/or suppression; lost sales and revenues; declines in production, capacity utilization, and U.S shipments; and negative impact on financial performance.²⁴ We assessed the allegations and supporting evidence regarding material injury, threat of material injury, causation, cumulation, as well as negligibility, and we have determined that these allegations are properly supported by adequate evidence, and meet the statutory requirements for initiation.²⁵

²⁴ Id.

²⁵ Id.

Allegations of Sales at LTFV

The following is a description of the allegations of sales at LTFV upon which Commerce based its decision to initiate LTFV investigations of imports of citric acid and certain citrate salts from Canada and India. The sources of data for the deductions and adjustments relating to U.S. price and normal value (NV) are discussed in greater detail in the Country-Specific AD Initiation Checklists.

U.S. Price

For Canada, the petitioners based export price (EP) on pricing information for citric acid and certain citrate salts produced in Canada and offered for sale in the U.S. market.²⁶ For India, the petitioners based EP on: (1) the POI average unit value (AUV) derived from official import statistics for imports of citric acid and certain citrate salts from India; and (2) a transaction-specific AUV (i.e., month and port-specific AUV) derived from official import statistics and tied to ship manifest data.²⁷ The petitioners made certain adjustments to U.S. price to calculate a net ex-factory U.S. price, where applicable.²⁸

²⁶ See Canada AD Initiation Checklist.

²⁷ See India AD Initiation Checklist.

²⁸ Id.

Normal Value ²⁹

²⁹ In accordance with section 773(b)(2) of the Act, for the Canada and India investigations, Commerce will request information necessary to calculate the constructed value (CV) and COP to determine whether there are reasonable grounds to believe or suspect that sales of the foreign like product have been made at prices that represent less than the COP of the product.

For Canada, the petitioners stated that they were unable to obtain home market prices for citric acid and certain citrate salts produced and sold in Canada and based NV on pricing information obtained through market research for citric acid and certain citrate salts produced in and sold, or offered for sale, from Canada to a third country, Mexico.³⁰ The petitioners also based NV on the POI AUV from publicly available data for exports of citric acid and certain citrate salts from Canada to Mexico.³¹ For Canada, the petitioners provided information indicating that the prices for citric acid and certain citrate salts sold or offered for sale in the third country market were below the COP.³² For India, the petitioners based NV on home market pricing information they obtained for citric acid and certain citrate salts produced in and sold, or offered for sale, in India during the applicable time period.³³ For India, the petitioners provided information indicating that the prices for citric acid and certain citrate salts sold or offered for sale in India were below the COP.³⁴ Therefore, for both countries, the petitioners calculated NV based on CV.³⁵ For further discussion of CV, see the section “Normal Value Based on Constructed Value.”

³⁰ See Canada AD Initiation Checklist.

³¹ Id.

³² Id.

³³ See India AD Initiation Checklist.

³⁴ Id.

³⁵ See Country-Specific AD Initiation Checklists.

Normal Value Based on Constructed Value

As noted above for Canada and India, the petitioners provided information indicating that prices for citric acid and certain citrate salts sold or offered for sale in the third country market and in India, respectively, were below the COP. Therefore, for Canada and India, the petitioners calculated NV based on CV.³⁶

³⁶ Id.

Pursuant to section 773(e) of the Act, the petitioners calculated CV as the sum of the cost of manufacturing, SG&A expenses, financial expenses, and profit.³⁷ For Canada and India, in calculating the cost of manufacturing, the petitioners relied on the production experience and input consumption rates of a U.S. producer of citric acid and citrate salts, valued using publicly available information applicable to the respective countries, where applicable.³⁸ In calculating SG&A expenses, financial expenses, and profit ratios, the petitioners relied on the fiscal year 2024 financial statements of producers of comparable merchandise domiciled in each country, respectively.³⁹

³⁷ Id.

³⁸ Id.

³⁹ Id.

Fair Value Comparisons

Based on the data provided by the petitioners, there is reason to believe that imports of citric acid and certain citrate salts from Canada and India are being, or are likely to be, sold in the United States at LTFV. Based on comparisons of EP or NV in accordance with sections 772 and 773 of the Act, after accounting for certain revisions made by Commerce, the estimated dumping margins for citric acid and certain citrate salts for each of the countries covered by this initiation are as follows: (1) Canada—64.61 to 84.41 percent; (2) India—100.21-151.73 percent.⁴⁰

⁴⁰ Id.

Initiation of LTFV Investigations

Based upon the examination of the Petitions and supplemental responses, we find that they meet the requirements of section 732 of the Act. Therefore, we are initiating a LTFV investigations to determine whether imports of citric acid and certain citrate salts from Canada and India are being, or are likely to be, sold in the United States at LTFV. In accordance with section 733(b)(1)(A) of the Act and 19 CFR 351.205(b)(1), unless postponed, we will make our preliminary determinations no later than 140 days after the date of this initiation.

Respondent Selection

Canada

In the Petitions, the petitioners identified one company (i.e., Jungbunzlauer Canada Inc. (JBL)) in Canada as a producer/exporter of citric acid and certain citrate salts and provided independent third-party information as support.⁴¹ We currently know of no additional producers/exporters of citric acid and certain citrate salts from Canada.

⁴¹ See Petitions at Volume I (Exhibit I-2); see also General Issues Supplement at 1.

Accordingly, Commerce intends to individually examine the only producer/exporter in the investigation from Canada (i.e., JBL). We invite interested parties to comment on this issue. Such comments may include factual information within the meaning of 19 CFR 351.102(b)(21). Parties wishing to comment must do so within three business days of the publication of this notice in the Federal Register. Comments must be filed electronically using ACCESS. An electronically filed document must be received successfully in its entirety via ACCESS by 5:00 p.m. ET on the specified deadline. Because we intend to examine the only known producer/exporter in Canada, if no comments are received or if comments received further support the existence of this sole producer/exporter in Canada, we do not intend to conduct respondent selection and will proceed to issuing the initial AD questionnaire to the company identified. However, if comments are received which create a need for a respondent selection process, we intend to finalize our decision regarding the respondent selection within 20 days of publication of this notice.

India

In the Petitions, the petitioners identified 19 companies in India as producers and/or exporters of citric acid and certain citrate salts.⁴² Following standard practice in LTFV investigations involving market economy countries, in the event Commerce determines that the number of companies is large such that Commerce cannot individually examine each company based on its resources, Commerce intends to select mandatory respondents based on U.S. Customs and Border Protection (CBP) data for imports under the appropriate Harmonized Tariff Schedule of the United States (HTSUS) subheadings listed in the “Scope of the Investigations,” in the appendix.

⁴² See Petitions at Volume I at Exhibit I-11.

On February 10, 2026, Commerce released CBP data on imports of citric acid and certain citrate salts from India, under administrative protective order (APO) to all parties with access to information protected by APO and indicated that interested parties wishing to comment on CBP data and/or respondent selection must do so within three business days of the publication date of the notice of initiation of this investigation.⁴³ Comments must be filed electronically using ACCESS. An electronically filed document must be received successfully in its entirety via ACCESS by 5:00 p.m. ET on the specified deadline. Commerce will not accept rebuttal comments regarding the CBP data or respondent selection.

⁴³ See Memorandum, “Release of U.S. Customs and Border Protection Entry Data,” dated February 10, 2026.

Interested parties must submit applications for disclosure under APO in accordance with 19 CFR 351.305(b). Instructions for filing such applications may be found on Commerce's website at https://www.trade.gov/administrative-protective-orders.

Distribution of Copies of the Petitions

In accordance with section 732(b)(3)(A) of the Act and 19 CFR 351.202(f), copies of the public version of the Petitions have been provided to the Governments of Canada and India via ACCESS. To the extent practicable, we will attempt to provide a copy of the public version of the Petitions to each exporter named in the Petitions, as provided under 19 CFR 351.203(c)(2).

ITC Notification

Commerce will notify the ITC of our initiation, as required by section 732(d) of the Act.

Preliminary Determinations by the ITC

The ITC will preliminarily determine, within 45 days after the date on which the Petitions were filed, whether there is a reasonable indication that imports of citric acid and certain citrate salts from Canada and/or India are materially injuring, or threatening material injury to, a U.S. industry.⁴⁴ A negative ITC determination for either country will result in the investigation being terminated with respect to that country.⁴⁵ Otherwise, these LTFV investigations will proceed according to statutory and regulatory time limits.

⁴⁴ See section 733(a) of the Act.

⁴⁵ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁶ and, if the information is submitted to rebut, clarify, or correct factual information already on the record, to provide an explanation identifying the information already on the record that the factual information seeks to rebut, clarify, or correct.⁴⁷ Time limits for the submission of factual information are addressed in 19 CFR 351.301, which provides specific time limits based on the type of factual information being submitted. Interested parties should review the regulations prior to submitting factual information in these investigations.

⁴⁶ See 19 CFR 351.301(b).

⁴⁷ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act (i.e., a cost-based PMS allegation), the submission must be filed in accordance with the requirements of 19 CFR 351.416(b), and Commerce will respond to such a submission consistent with 19 CFR 351.301(c)(2)(v). If Commerce finds that a cost-based PMS exists under section 773(e) of the Act, then it will modify its dumping calculations appropriately.

Neither section 773(e) of the Act, nor 19 CFR 351.301(c)(2)(v), sets a deadline for the submission of cost-based PMS allegations and supporting factual information. However, in order to administer section 773(e) of the Act, Commerce must receive PMS allegations and supporting factual information with enough time to consider the submission. Thus, should an interested party wish to submit a cost-based PMS allegation and supporting new factual information pursuant to section 773(e) of the Act, it must do so no later than 20 days after submission of a respondent's initial section D questionnaire response.

We note that a PMS allegation filed pursuant to sections 773(a)(1)(B)(ii)(III) or 773(a)(1)(C)(iii) of the Act (i.e., a sales-based PMS allegation) must be filed within 10 days of submission of a respondent's initial section B questionnaire response, in accordance with 19 CFR 351.301(c)(2)(i) and 19 CFR 351.404(c)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴⁸ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in these investigations.⁴⁹

⁴⁸ See 19 CFR 351.301; see also Extension of Time Limits; Final Rule, 78 FR 57790 (September 20, 2013) (Time Limits Final Rule), available at https://www.gpo.gov/fdsys/pkg/FR-2013-09-20/html/2013-22853.htm.

⁴⁹ See 19 CFR 351.302; see also, e.g., Time Limits Final Rule.

Certification Requirements

Any party submitting factual information in an AD or CVD proceeding must certify to the accuracy and completeness of that information.⁵⁰ Parties must use the certification formats provided in 19 CFR 351.303(g).⁵¹ Commerce intends to reject factual submissions if the submitting party does not comply with the applicable certification requirements.

⁵⁰ See section 782(b) of the Act.

⁵¹ See Certification of Factual Information to Import Administration During Antidumping and Countervailing Duty Proceedings, 78 FR 42678 (July 17, 2023) (Final Rule). Additional information regarding the Final Rule is available at https://access.trade.gov/Resources/filing/index.html.

Notification to Interested Parties

Interested parties must submit applications for disclosure under APO in accordance with 19 CFR 351.305. Parties wishing to participate in these investigations should ensure that they meet the requirements of 19 CFR 351.103(d) (e.g., by filing the required letter of appearance). Note that Commerce has amended certain of its requirements pertaining to the service of documents in 19 CFR 351.303(f).⁵²

⁵² See Administrative Protective Order, Service, and Other Procedures in Antidumping and Countervailing Duty Proceedings, 88 FR 67069 (September 29, 2023).

This notice is issued and published pursuant to sections 732(c)(2) and 777(i) of the Act, and 19 CFR 351.203(c).

Dated: February 10, 2026.
Christopher Abbott,
Deputy Assistant Secretary for Policy and Negotiations, performing the non-exclusive functions and duties of the Assistant Secretary for Enforcement and Compliance.

Appendix

Scope of the Investigations

The merchandise covered by these investigations includes all grades and granulation sizes of citric acid, sodium citrate, and potassium citrate in their unblended forms, whether dry or in solution, and regardless of packaging type. The scope also includes blends of citric acid, sodium citrate, and potassium citrate, as well as blends with other ingredients, such as sugar, where the unblended form(s) of citric acid, sodium citrate, and potassium citrate constitute 40 percent or more, by weight, of the blend.

The scope also includes all forms of crude calcium citrate, including dicalcium citrate monohydrate, and tricalcium citrate tetrahydrate, which are intermediate products in the production of citric acid, sodium citrate, and potassium citrate. The scope includes the hydrous and anhydrous forms of citric acid, the dihydrate and anhydrous forms of sodium citrate, otherwise known as citric acid sodium salt, and the monohydrate and monopotassium forms of potassium citrate. Sodium citrate also includes both trisodium citrate and monosodium citrate which are also known as citric acid trisodium salt and citric acid monosodium salt, respectively.

The scope includes merchandise matching the above description that has been processed in a third country, including by commingling, diluting, introducing or removing additives, or performing any other processing that would not otherwise remove the merchandise from the scope of the investigations if performed in the subject country. The scope also includes merchandise matching the above description that is commingled or blended with citric acid, sodium citrate, and potassium citrate from sources not subject to these investigations. Only the subject component of such commingled products is covered by the scope of these investigations.

The scope does not include calcium citrate that satisfies the standards set forth in the United States Pharmacopeia and has been mixed with a functional excipient, such as dextrose or starch, where the excipient constitutes at least two percent, by weight, of the product.

Citric acid and sodium citrate are classifiable under 2918.14.0000 and 2918.15.1000 of the Harmonized Tariff Schedule of the United States (HTSUS), respectively. Potassium citrate and crude calcium citrate are classifiable under 2918.15.5000 and, if included in a mixture or blend, 3824.99.9397 of the HTSUS. Blends that include citric acid, sodium citrate, and potassium citrate are classifiable under 3824.99.9397 of the HTSUS. Although the HTSUS subheadings are provided for convenience and customs purposes, the written description of the merchandise is dispositive.

[FR Doc. 2026-03061 Filed 2-13-26; 8:45 am]

BILLING CODE 3510-DS-P